DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before September 29, 2022.

ADDRESSES: You may submit comments identified by Docket No. MSHA-2022-0040 by any of the following methods:

1. Federal eRulemaking Portal: https://www.regulations.gov. Follow the instructions for submitting comments for MSHA-2022-0040.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-014-C.

Petitioner: Peabody Southeast Mining LLC, 701 Market Street, St. Louis, Missouri 63101.

Mine: Shoal Creek Mine, MSHA ID No. 01-02901, located in Tuscaloosa and Walker Counties, Alabama.

Regulation Affected: 30 CFR 75.503, Permissible electric face equipment; maintenance.

Modification Request: The petitioner requests a modification of 30 CFR 75.503 as it pertains to increasing the length of trailing cables used on low and medium voltage shuttle cars, auxiliary face ventilation fans, and roof bolting machines to 1,000 feet in length.

The petitioner states that:

(a) The Shoal Creek Mine utilizes continuous mining and longwall methods of mining.

(b) The operator uses cables up to 700 feet in length on its development sections and utilizes pillars 150 feet in length.

(c) For ground control purposes, the length of the pillars left for roof support during development at the mine may need to exceed the current 150 feet length.

(d) Without the requested modification, the inability to increase the length of the pillars will prevent an improved system of roof control.

(e) Increase in the length of the pillar without the requested modification makes cable handling and the section layout difficult for shuttle cars, auxiliary fans, and roof bolting machines.

(f) Increase in the length of cables will permit improved roof control and more efficient and safer cable handling.

The petitioner proposes the following alternative method:

(a) The maximum length of the low and medium trailing cables shall be 1,000 feet. The 1,000 feet trailing cables shall only be used on the section shuttle cars, roof bolters, and auxiliary ventilation fans.

(b) The low and medium voltage trailing cables shall not be smaller than No. 2 American Wire Gauge (AWG).

(c) All circuit breakers used to protect the No. 2 AWG trailing cables exceeding 700 feet in length shall have instantaneous trip units calibrated to trip at 800 amperes +/−10%. The trip settings of these circuit breakers shall be sealed or locked so the settings cannot be changed, and these circuit breakers shall have permanent, legible labels. Each label shall identify the circuit breaker as being suitable for protecting No. 2 AWG cables.

(d) Calibration, sealing, and labeling of circuit breakers and replacement units shall be performed by the circuit breaker manufacturer or an authorized repair facility outfitted with calibrated test equipment. Each label shall identify the circuit breaker as being suitable for protecting No. 2 AWG cable.

(e) Replacement circuit breakers and/or instantaneous trip units used to protect the No. 2 AWG trailing cables shall be calibrated to trip at 800 amperes +/−10%, and they shall be sealed.

(f) All components that provide short-circuit protection shall have a sufficient interruption rating in accordance with the minimum and maximum calculated fault currents available. Minimum and maximum calculated fault currents shall be made available by the operator.

(g) Prior to putting the equipment noted in item (a) of this section into service for each shift, persons designated by the mine operator shall visually examine the trailing cables to ensure that the cables are in safe operating condition. The instantaneous settings of the specially calibrated circuit breakers shall also be visually examined to ensure that the seals or locks have not been removed and that they do not exceed the settings stipulated in item (c) of this section.

(h) Permanent warning labels shall be installed and maintained on the cover(s) of the power center identifying the location of each sealed or locked short-circuit protective device. These labels shall warn miners not to change or alter the short-circuit settings. If any labels or settings on circuit breakers are altered or changed, the labels and/or short-circuit protective devices shall be changed.

(i) If the mining methods or operating procedures cause or contribute to the damage of any trailing cable, the cable shall be removed from service immediately and repaired or replaced. Each splice or repair in the trailing cables shall be made in a workmanlike manner and in accordance with the instructions of the manufacturer of the splice or repair materials. The splice or repair shall comply with 30 CFR 75.603 and 75.604. Additional precautions shall be taken to ensure that haulage roads and trailing cable storage areas are situated to minimize contact of the trailing cable with continuous mining equipment, haulage systems, scoops, and roof bolters.

(j) The petitioner's alternative method shall not be implemented until all miners designated to examine the integrity of seals or locks verify the short-circuit settings and proper procedures for examining trailing cables for defects or damage and to examine the designated operations of the section shuttle cars, roof bolters, and auxiliary ventilation fans have received the training specified in item (m).

(k) Prior to implementation of this petition, the circuit breakers shall be inspected by MSHA to ensure their conformity with the terms and conditions of this petition.

(l) Within 60 days after this petition becomes final, the operator shall submit proposed revisions for the approved 30 CFR part 48 training plan to the Coal Mine Safety and Health District Manager for the area in which the mine is located. The training shall include the following elements:

(1) Training in mining methods and operating procedures that will protect the trailing cables against damage.

(2) The proper procedure for examining the trailing cable to ensure that the cable(s) are in safe operating condition by a visual inspection of the entire cable, observing the insulation and the integrity of the splices, nicks, and abrasions.

(3) Training in hazards of setting the short-circuit interrupting device(s) too high to adequately protect the trailing cables.

(4) Training in how to verify that the circuit interrupting device(s) protecting the trailing cable(s) are properly set and maintained.

(5) On each production shift, the person designated by the operator to examine the trailing cable shall ensure that only the amount of the trailing cable needed for the shift is stored on the cable reel to prevent cable overheating. All excess cable shall be stored in a safe location.

(m) The operator shall post this Petition in unobstructed locations on the bulletin boards and/or in other conspicuous places where notices to miners are ordinarily posted at the mine for a period of not less than 60 consecutive days.

The petitioner asserts that the alternative method proposed will at all times guarantee no less than the same measure of protection afforded the miners under the mandatory standard.

Song-ae Aromie Noe,
Director, Office of Standards, Regulations, and Variances.

[FR Doc. 2022-18610 Filed 8-29-22; 8:45 am]

BILLING CODE 4520-43-P